DEPARTMENT OF THE INTERIOR

National Park Service

[NPS-NER-NERO-13240; PPNEGATE00/PMP00UP05.YP0000]

General Management Plan, Draft Environmental Impact Statement, Gateway National Recreation Area, New Jersey and New York

AGENCY: National Park Service, Interior.

ACTION: Notice of Availability.

SUMMARY: Pursuant to the National Environmental Policy Act of 1969, 42 U.S.C. 4332(2)(C), the National Park Service (NPS) is releasing a Draft Environmental Impact Statement (DEIS) for the General Management Plan (GMP), Gateway National Recreation Area (Gateway), New York. The draft describes and analyzes several alternatives to guide the management of the site over the next 20 years. The NPS preferred alternative incorporates various management prescriptions to ensure access to and protection and enjoyment of Gateway's resources.

DATES: We will accept comments for a period of 60 days following publication of the Environmental Protection Agency's notice of availability in the Federal Register. We will announce the dates, times, and locations of public meetings on the DEIS/GMP through the park's Web page (http://www.nps.gov/gate) and the NPS Planning, Environment, and Public Comment (PEPC) Web site (http://www.parkplanning.nps.gov/projectHome.cfm?projectID=16091) and media outlets.

ADDRESSES: Electronic copies of the DEIS/GMP will be available for public review at http://www.parkplanning.nps.gov/projectHome.cfm?projectID=16091. A limited number of printed copies will be available upon request by contacting the Superintendent's office.

FOR FURTHER INFORMATION CONTACT: Acting Superintendent Suzanne McCarthy, Gateway National Recreation Area, 210 New York Avenue, Staten Island, New York 10305 or telephone at (718) 354-4663.

SUPPLEMENTARY INFORMATION: The document describes the no-action alternative and two action alternatives for future management of Gateway, the environment that would be affected by the alternative management actions, and the environmental consequences of implementing the alternatives.

Alternative A is a continuation of current management and trends. The park's enabling legislation and current GMP would continue to guide park management. Gateway would manage park resources and visitor use as it does today, with no major change in direction.

Alternative B is the NPS Preferred Alternative. This alternative provides the widest range of activities and most recreation opportunities in dispersed locations throughout the park. New connections would be forged with park lands and communities adjacent to Gateway and nearby. This alternative offers the most instructional programming and skills development and draws people into the park to increase awareness and enjoyment of Gateway's historic resources and the natural environment. Alternative C provides the most opportunities for independent exploration and experiences that immerse visitors into natural areas, historic sites, and landscapes. This alternative increases the visibility, enjoyment, and protection of coastal resources and highlights preservation efforts as part of interpretation and education activities and promotes hands-on learning and outdoor skills.

Before including your address, phone number, email address, or other personal identifying information in your comment, please be aware that your entire comment -including your personal identifying information—may be made publicly available at any time. While you can ask us in your comment to withhold your personal identifying information from public review, we cannot guarantee that we will be able to do so.

Dated: July 31, 2013.
Gay Vietzke,
Acting Regional Director, Northeast Region, National Park Service.

[FR Doc. 2013-18862 Filed 8-2-13; 8:45 am]

BILLING CODE 4310-PM-P